POSTAL SERVICE

39 CFR Part 111

Domestic Mail Manual; Incorporation by Reference

AGENCY: Postal Service™.

ACTION: Final rule.

SUMMARY: The Postal Service announces the issuance of the Mailing Standards of the United States Postal Service, Domestic Mail Manual (DMM®) dated July 10, 2022, and its incorporation by reference in the Code of Federal Regulations.

DATES: This final rule is effective on October 19, 2022. The incorporation by reference of the DMM dated July 10, 2022, is approved by the Director of the Federal Register as of October 19, 2022.

FOR FURTHER INFORMATION CONTACT: Dale Kennedy (202) 268-6592.

SUPPLEMENTARY INFORMATION: The Mailing Standards of the United States Postal Service, Domestic Mail Manual (DMM) provides the United States Postal Service's official prices and standards for all domestic mailing services. The most recent issue of the DMM is dated July 10, 2022. This issue of the DMM contains all Postal Service domestic mailing standards and continues to: (1) increase the user's ability to find information; (2) increase confidence that users have found all the information they need; and (3) reduce the need to consult multiple chapters of the Manual to locate necessary information. The issue dated July 10, 2022, sets forth specific changes, including new standards throughout the DMM to support the standards and mail preparation changes implemented since the version issued on July 1, 2020.

Changes to mailing standards will continue to be published through Federal Register documents and the Postal Bulletin and will appear in the next online version available via the Postal Explorer® website at: https://pe.usps.com.

List of Subjects in 39 CFR Part 111

Administrative practice and procedure, Incorporation by reference.

In view of the considerations discussed above, the Postal Service hereby amends 39 CFR part 111 as follows:

PART 111—GENERAL INFORMATION ON POSTAL SERVICE

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Amend § 111.1 (b) by:

a. In paragraph (a)(2),

i. Removing the text “Mailing Standards of the United States Postal Service, Domestic Mail Manual”, wherever it appears, and adding, in its place, the text “DMM”; and

ii. Removing the Web address “http://pe.usps.gov” and adding, in its place, the Web address “https://pe.usps.gov”; and

b. Revising paragraphs (a)(3) and (b).

The revisions read as follows:

§ 111.1 Incorporation by reference; Mailing Standards of the United States Postal Service, Domestic Mail Manual.

(a) * * *

(3) Inspection—NARA. For information on the availability of this material at NARA, contact the Office of the Federal Register—email: fr.inspection@nara.gov; website: www.archives.gov/federal-register/cfr/ibr-locations.html.

(b) The Director of the Federal Register approved DMM, updated July 10, 2022, for incorporation by reference as of October 19, 2022.

3. Amend § 111.3 by adding a new entry to the end of table 1 to § 111.3 to read as follows:

* * * * *

Table 1 to § 111.3—Domestic Mail Manual
Transmittal letter for issue | Dated | Federal Register publication
* * * * * * *
DMM | July 10, 2022 | [INSERT Federal Register CITATION FOR THIS FINAL RULE].

Sarah E. Sullivan,
Attorney, Ethics and Legal Compliance.

[FR Doc. 2022-22491 Filed 10-18-22; 8:45 am]

BILLING CODE 7710-12-P